DEPARTMENT OF AGRICULTURE

Animal and Plant Health Inspection Service

[Docket No. APHIS-2008-0079]

Fiscal Year 2009 Veterinary Diagnostics Services User Fees and Agricultural Quarantine and Inspection User Fees

AGENCY: Animal and Plant Health Inspection Service, USDA.

ACTION: Notice.

SUMMARY: This notice pertains to user fees charged for certain veterinary diagnostics services and to fees charged for agricultural quarantine and inspection services that are provided in connection with certain commercial vessels, commercial trucks, loaded commercial railroad cars, commercial aircraft, and international airline passengers arriving at ports in the Customs territory of the United States. The purpose of this notice is to remind the public of the user fees for fiscal year 2009 (October 1, 2008, through September 30, 2009).

FOR FURTHER INFORMATION CONTACT: For information concerning veterinary diagnostic program operations, contact Dr. Elizabeth Lautner, Director, National Veterinary Services Laboratories, VS, APHIS, 1800 Dayton Avenue, Ames, IA 50010; (515) 663-7301.

For information on Agricultural Quarantine program operations, contact Mr. William E. Thomas, Director for Quarantine Policy, Analysis, and Support, PPQ, APHIS, 4700 River Road Unit 60, Riverdale, MD 20737-1231; (301) 734-5214.

For information concerning user fee rate development, contact Mrs. Kris Caraher, Section Head, User Fees Section, Financial Management Division, MRPBS, APHIS, 4700 River Road Unit 55, Riverdale, MD20737-1232; (301) 734-0882.

SUPPLEMENTARY INFORMATION:

Veterinary Diagnostic Services User Fees

User fees to reimburse APHIS for the costs of providing veterinary diagnostic services are contained in 9 CFR part 130 (referred to below as the regulations). These user fees are authorized by section 2509(c) of the Food, Agriculture, Conservation, and Trade Act of 1990, as amended (21 U.S.C. 136a), which provides that the Secretary of Agriculture may, among other things, prescribe regulations and collect fees to recover the costs of veterinary diagnostics relating to the control and eradication of communicable diseases of livestock and poultry within the United States.

In a final rule published in the Federal Register on December 19, 2007 (72 FR 71744-71750, Docket No. APHIS-2006-0161), and effective January 18, 2008, we established, for fiscal years 2008 through 2012 and beyond, user fees for certain veterinary diagnostic services, including certain diagnostic tests, reagents, and other veterinary diagnostic materials and services. Veterinary diagnostics is the work performed in a laboratory to determine whether a disease-causing organism or chemical agent is present in body tissues or cells and, if so, to identify those organisms or agents. Services in this category include: (1) Performing identification, serology, and pathobiology tests and providing diagnostic reagents and other veterinary diagnostic materials and services for the National Veterinary Services Laboratory (NVSL) in Ames, IA; and (2) performing laboratory tests and providing reagents and other veterinary diagnostic materials and services at the NVSL Foreign Animal Disease Diagnostic Laboratory (NVSL FADDL) in Greenport, NY.

APHIS veterinary diagnostic user fees fall into six categories:

(1) Laboratory tests, reagents, and other veterinary diagnostic services performed at NVSL FADDL;

(2) Laboratory tests performed as part of isolation and identification testing at NVSL in Ames or other authorized sites;

(3) Laboratory tests performed as part of serology testing at NVSL in Ames or other authorized sites;

(4) Laboratory tests performed at the pathobiology laboratory at NVSL in Ames or other authorized sites;

(5) Diagnostic reagents produced at NVSL in Ames or other authorized sites; and

(6) Other veterinary diagnostic services or materials provided at NVSL in Ames.

As specified in § 130.15(a), the user fees for bacteriology isolation and identification tests performed at NVSL (excluding FADDL) or other authorized sites for fiscal year 2009 are as follows:

Test | Unit | User fee
Bacterial identification, automated | Isolate | $54.00
Bacterial identification, non-automated | Isolate | 92.00
Bacterial isolation | Sample | 37.00
Bacterial serotyping, all other | Isolate | 56.00
Bacterial serotyping, Pasteurella multocida | Isolate | 19.00
Bacterial serotyping, Salmonella | Isolate | 37.00
Bacterial toxin typing | Isolate | 123.00
Bacteriology requiring special characterization | Test | 94.00
DNA fingerprinting | Test | 61.00
DNA probe | Test | 85.00
Fluorescent antibody | Test | 19.00
Mycobacterium identification (biochemical) | Isolate | 117.00
Mycobacterium identification (gas chromatography) | Procedure | 99.00
Mycobacterium isolation, animal inoculations | Submission | 852.00
Mycobacterium isolation, all other | Submission | 154.00
Mycobacterium paratuberculosis isolation | Submission | 74.00
Phage typing, all other | Isolate | 43.00
Phage typing, Salmonella enteritidis | Isolate | 24.00

As specified in § 130.15(b), the user fees for virology identification tests performed at NVSL (excluding FADDL) or other authorized sites for fiscal year 2009 are as follows:

Test | Unit | User fee
Fluorescent antibody tissue section | Test | $30.00
Virus isolation | Test | 49.00

As specified in § 130.16(a), the user fees for bacteriology serology tests performed at NVSL (excluding FADDL) or other authorized sites for fiscal year 2009 are as follows:

Test | Unit | User fee
Brucella ring (BRT) | Test | $37.00
Brucella ring, heat inactivated (HIRT) | Test | 37.00
Brucella ring, serial (Serial BRT) | Test | 56.00
Buffered acidified plate antigen presumptive | Test | 7.25
Card | Test | 4.00
Complement fixation | Test | 17.00
Enzyme linked immunosorbent assay | Test | 17.00
Indirect fluorescent antibody | Test | 15.00
Microscopic agglutination—includes up to 5 serovars | Sample | 24.00
Microscopic agglutination—each serovar in excess of 5 serovars | Sample | 4.50
Particle concentration fluorescent immunoassay (PCFIA) | Test | 37.00
Plate | Test | 7.25
Rapid automated presumptive | Test | 7.00
Rivanol | Test | 7.25
Tube agglutination | Test | 7.25

As specified in § 130.16(b), the user fees for virology serology tests performed at NVSL (excluding FADDL) or other authorized sites for fiscal year 2009 are as follows:

Test | Unit | User fee
Agar gel immunodiffusion | Test | $17.00
Complement fixation | Test | 17.00
Enzyme linked immunosorbent assay | Test | 17.00
Hemagglutination inhibition | Test | 15.00
Indirect fluorescent antibody | Test | 15.00
Latex agglutination | Test | 17.00
Peroxidase linked antibody | Test | 16.00
Plaque reduction neutralization | Test | 18.00
Rabies fluorescent antibody neutralization | Test | 46.00
Virus neutralization | Test | 13.00

As specified in § 130.17(a), the user fees for veterinary diagnostic tests performed at the Pathobiology Laboratory at NVSL (excluding FADDL) or other authorized sites for fiscal year 2009 are as follows:

Test | Unit | User fee
Aflatoxin quantitation | Test | $31.00
Aflatoxin screen | Test | 29.00
Agar gel immunodiffusion spp. identification | Test | 13.00
Antibiotic (bioautography) quantitation | Test | 67.00
Antibiotic (bioautography) screen | Test | 122.00
Antibiotic inhibition | Test | 67.00
Arsenic | Test | 18.00
Ergot alkaloid screen | Test | 67.00
Ergot alkaloid confirmation | Test | 88.00
Feed microscopy | Test | 67.00
Fumonisin only | Test | 38.00
Gossypol | Test | 100.00
Mercury | Test | 148.00
Metals screen | Test | 45.00
Metals single element confirmation | Test | 13.00
Mycotoxin: aflatoxin-liver | Test | 122.00
Mycotoxin screen | Test | 49.00
Nitrate/nitrite | Test | 67.00
Organic compound confirmation | Test | 90.00
Organic compound screen | Test | 155.00
Parasitology | Test | 29.00
Pesticide quantitation | Test | 135.00
Pesticide screen | Test | 62.00
pH | Test | 27.00
Plate cylinder | Test | 100.00
Selenium | Test | 45.00
Silicate/carbonate disinfectant | Test | 67.00
Temperature disks | Test | 133.00
Toxicant quantitation, other | Test | 112.00
Toxicant screen, other | Test | 33.00
Vomitoxin only | Test | 54.00
Water activity | Test | 33.00
Zearaleone quantitation | Test | 54.00
Zearaleone screen | Test | 29.00

As specified in § 130.18(a), the user fees for bacteriology reagents produced by the Diagnostic Bacteriology Laboratory at NVSL (excluding FADDL) or other authorized sites for fiscal year 2009 are as follows:

Reagent | Unit | User fee
Anaplasma card test antigen | 2 mL | $97.00
Anaplasma card test kit without antigen | Kit | 130.00
Anaplasma CF antigen | 2 mL | 46.00
Anaplasma stabilate | 4.5 mL | 178.00
Avian origin bacterial antiserums | 1 mL | 49.00
Bacterial agglutinating antigens other than brucella and salmonella pullorum | 5 mL | 55.00
Bacterial conjugates | 1 mL | 99.00
Bacterial disease CF antigens, all other | 1 mL | 30.00
Bacterial ELISA antigens | 1 mL | 30.00
Bacterial or protozoal antiserums, all other | 1 mL | 61.00
Bacterial reagent culture ¹ | Culture | 74.00
Bacterial reference culture ² | Culture | 233.00
Bacteriophage reference culture | Culture | 176.00
Bovine serum factor | 1 mL | 18.00
Brucella abortus CF antigen | 60 mL | 154.00
Brucella agglutination antigens, all other | 60 mL | 154.00
Brucella buffered plate antigen | 60 mL | 176.00
Brucella canis tube antigen | 25 mL | 116.00
Brucella card test antigen (packaged) | Package | 92.00
Brucella card test kit without antigen | Kit | 114.00
Brucella cells | Gram | 19.00
Brucella cells, dried | Pellet | 6.00
Brucella ring test antigen | 60 mL | 246.00
Brucella rivanol solution | 60 mL | 30.00
Dourine CF antigen | 1 mL | 91.00
Dourine stabilate | 4.5 mL | 111.00
Equine and bovine origin babesia species antiserums | 1 mL | 130.00
Equine negative control CF antigen | 1 mL | 283.00
Flazo-orange | 3 mL | 13.00
Glanders CF antigen | 1 mL | 79.00
Hemoparasitic disease CF antigens, all other | 1 mL | 553.00
Leptospira transport medium | 10 mL | 4.50
Monoclonal antibody | 1 mL | 97.00
Mycobacterium spp. old tuberculin | 1 mL | 24.00
Mycobacterium spp. PPD | 1 mL | 19.00
Mycoplasma hemagglutination antigens | 5 mL | 184.00
Negative control serums | 1 mL | 19.00
Rabbit origin bacterial antiserum | 1 mL | 53.00
Salmonella pullorum microagglutination antigen | 5 mL | 16.00
Stabilates, all other | 4.5 mL | 690.00
¹ A reagent culture is a bacterial culture that has been subcultured one or more times after being tested for purity and identity. It is intended for use as a reagent with a diagnostic test such as the leptospiral agglutination test.
² A reference culture is a bacterial culture that has been thoroughly tested for purity and identity. It should be suitable as a master seed for future cultures.

As specified in § 130.18(b), the user fees for virology reagents produced by the Diagnostic Virology Laboratory at NVSL (excluding FADDL) or other authorized sites for fiscal year 2009 are as follows:

Reagent | Unit | User fee
Antigen, except avian influenza and chlamydia psittaci antigens, any | 2 mL | $62.00
Avian antiserum except avian influenza antiserum, any | 2 mL | 49.00
Avian influenza antigen, any | 2 mL | 34.00
Avian influenza antiserum, any | 6 mL | 105.00
Bovine or ovine serum, any | 2 mL | 130.00
Cell culture | Flask | 154.00
Chlamydia psittaci spp. of origin monoclonal antibody panel | Panel | 96.00
Conjugate, any | 1 mL | 75.00
Diluted positive control serum, any | 2 mL | 25.00
Equine antiserum, any | 2 mL | 46.00
Monoclonal antibody | 1 mL | 104.00
Other spp. antiserum, any | 1 mL | 52.00
Porcine antiserum, any | 2 mL | 108.00
Porcine tissue sets | Tissue set | 157.00
Positive control tissues, all | 2 cm ² section | 62.00
Rabbit origin antiserum | 1 mL | 53.00
Reference virus, any | 0.6 mL | 184.00
Viruses (except reference viruses), chlamydia psittaci agent or chlamydia psittaci antigen, any | 0.6 mL | 31.00

As specified in § 130.19(a), the user fees for other veterinary diagnostic services or materials available from NVSL (excluding FADDL) for fiscal year 2009 are as follows:

Service | Unit | User fee
Antimicrobial susceptibility test | Isolate | $107.00
Avian safety test | Test | 4,090.00
Check tests, culture | Kit ¹ | 179.00
Check tests, serology | Kit ¹ | 369.00
Fetal bovine serum safety test | Verification | 1,122.00
Hourly user fees ² | Hour | 104.00
Quarter hour | Quarter hour | 26.00
Minimum |  | 31.00
Manual, brucellosis culture | 1 copy | 117.00
Manual, tuberculosis culture (English or Spanish) | 1 copy | 176.00
Manual, Veterinary mycology | 1 copy | 176.00
Manuals or standard operating procedure (SOP), all other | 1 copy | 35.00
Manuals or SOP, per page | 1 page | 2.50
Training (school or technical assistance) | Per person per day | 339.00
¹ Any reagents required for the check test will be charged separately.
² For veterinary diagnostic services for which there is no flat user fee the hourly rate user fee will be calculated for the actual time required to provide the service.

Agricultural Quarantine and Inspection Services User Fees

User fees to reimburse APHIS for the costs of providing inspection of certain commercial conveyances are found in 7 CFR part 354 (referred to below as the regulations). These user fees are authorized by Section 2509(a) of the Food, Agriculture, Conservation, and Trade Act of 1990 (21 U.S.C. 136a), which authorizes APHIS to collect user fees for agricultural quarantine and inspection (AQI) services.

In a final rule published in the Federal Register on December 9, 2004 (69 FR 71660-71683, Docket No. 04-042-1), and effective January 1, 2005, we established, for fiscal years 2005 through 2010, user fees for each of the types of conveyances or persons to whom AQI services are provided, i.e., commercial vessels (watercraft), commercial trucks, loaded commercial railroad cars, commercial aircraft, and international airline passengers. The regulations provide specific information regarding the applicability of, and exceptions to, AQI user fees. As specified in 7 CFR 354.3, the user fees for these AQI services for fiscal year 2009 are as follows:

Service | Unit | Amount
Inspection of commercial vessels of 100 net tons or more (see 7 CFR 354.3(b)) | Per entry ¹ | $494.00
Inspection of commercial trucks (see 7 CFR 354.3(c)) | Per entry ² | 5.25
Inspection of commercial railroad cars (see 7 CFR 354.3(d)) | Per entry ³ | 7.75
Inspection of commercial aircraft (see 7 CFR 354.3(e)) | Per entry | 70.75
Inspection of international aircraft passengers (see 7 CFR 354.3(f)) | Per entry | 5.00
¹ Not to exceed 15 payments in a calendar year (i.e., no additional fee will be charged for a 16th or subsequent arrival in a calendar year).
² A prepaid AQI permit valid for 1 calendar year may be obtained for an amount 20 times the AQI use fee for each arrival ($105 from October 1, 2008, through September 30, 2009).
³ The AQI user fee may be prepaid for all arrival of a commercial railroad car during a calendar year for an amount 20 times the AQI use fee for each arrival ($155 from October 1, 2008, through September 30, 2009).

Done in Washington, DC, this 21st day of August, 2008.
Kevin Shea,
Acting Administrator, Animal and Plant Health Inspection Service.

[FR Doc. E8-19864 Filed 8-26-08; 8:45 am]

BILLING CODE 3410-34-P